DEPARTMENT OF HEALTH AND HUMAN SERVICES

Centers for Disease Control and Prevention

Disease, Disability, and Injury Prevention and Control Special Emphasis Panel (SEP): Evaluation of Parents Claiming Exemptions to School Entry Immunization Requirements, Program Announcement Number 04091; Correction

Correction: This notice was published in the Federal Register on May 7, 2004, volume 69, page 89, page 25591. The times and dates for the meeting have been changed and it will be a teleconference.

Telephone: The conference call number is 888-791-2132, passcode 14617.

Times and Dates: 10:30 a.m.-10:40 a.m., June 28, 2004 (open). 10:40 a.m.-12 p.m., June 28, 2004 (closed).

Contact Person for More Information: Beth Gardner, National Immunization Program, CDC, 1600 Clifton Road, NE., MS-E05, Atlanta, GA 30333, telephone (404) 639-6101.

The Director, Management Analysis and Services Office, has been delegated the authority to sign Federal Register notices pertaining to announcements of meetings and other committee management activities, for both CDC and the Agency for Toxic Substances and Disease Registry.

Dated: June 10, 2004.
Alvin Hall,
Director, Management Analysis and Services Office, Centers for Disease Control and Prevention.

[FR Doc. 04-13767 Filed 6-17-04; 8:45 am]

BILLING CODE 4163-18-P